DEPARTMENT OF ENERGY

Advanced Scientific Computing Advisory Committee; Notice of a Meeting

AGENCY: Office of Science, Department of Energy.

ACTION: Notice of open meeting.

SUMMARY: This notice announces a meeting of the Advanced Scientific Computing Advisory Committee (ASCAC). The Federal Advisory Committee Act requires that public notice of these meetings be announced in the Federal Register.

DATES: Tuesday, April 17, 2018; 8:30 a.m. to 5:00 p.m., and

Wednesday, April 18, 2018; 8:30 a.m. to 12:00 p.m.

ADDRESSES: Sheraton Hotel Pentagon City, 900 S Orme Street, Arlington, VA 22204.

FOR FURTHER INFORMATION CONTACT: Christine Chalk, Office of Advanced Scientific Computing Research; SC-21/Germantown Building; U.S. Department of Energy; 1000 Independence Avenue SW, Washington, DC 20585-1290; Telephone (301) 903-7486.

SUPPLEMENTARY INFORMATION:

Purpose of the Meeting: To provide advice and guidance on a continuing basis to the Office of Science and to the Department of Energy on scientific priorities within the field of advanced scientific computing research.

Tentative Agenda Topics:

• View from Washington

• View from Germantown

• Update on Exascale project activities

• Report from Subcommittee on 40 years of investments by the Department of Energy in advanced computing and networking

• Program response to Committee of Visitors for Research programs

• Technical presentations

• Public Comment (10-minute rule)

The meeting agenda includes an update on the budget, accomplishments and planned activities of the Advanced Scientific Computing Research program and the exascale computing project; an update on the Office of Science; technical presentations from funded researchers; and there will be an opportunity comments from the public. The meeting will conclude at 12:00 noon on April 18, 2018. Agenda updates and presentations will be posted on the ASCAC website prior to the meeting: http://science.energy.gov/ascr/ascac/.

Public Participation: The meeting is open to the public. Individuals and representatives of organizations who would like to offer comments and suggestions may do so during the meeting. Approximately 30 minutes will be reserved for public comments. Time allotted per speaker will depend on the number who wish to speak but will not exceed 10 minutes. The Designated Federal Officer is empowered to conduct the meeting in a fashion that will facilitate the orderly conduct of business. Those wishing to speak should submit your request at least five days before the meeting. Those not able to attend the meeting or who have insufficient time to address the committee are invited to send a written statement to Christine Chalk, U.S. Department of Energy, 1000 Independence Avenue SW, Washington, DC 20585, email to Christine.Chalk@science.doe.gov.

Minutes: The minutes of this meeting will be available within 90 days on the Advanced Scientific Computing website at http://science.energy.gov/ascr/ascac/.

Issued in Washington, DC, on April 2, 2018.
Latanya Butler,
Deputy Committee Management Officer.

[FR Doc. 2018-07060 Filed 4-5-18; 8:45 am]

BILLING CODE 6450-01-P